DEPARTMENT OF HEALTH AND HUMAN SERVICES

Proposed National Toxicology Program (NTP) Review Process for the Report on Carcinogens: Request for Public Comment and Listening Session: Amended Notice

AGENCY: Division of the National Toxicology Program (DNTP), National Institute of Environmental Health Sciences (NIEHS); National Institutes of Health (NIH).

ACTION: Extension of time for the public listing session and increase in the number of oral presenters.

SUMMARY: The NTP announces that the public listening session on the proposed review process for the Report on Carcinogens on November 29, 2011, has been extended from 1-5 p.m. (EST) to 1-7 p.m. (EST). Registration to present oral remarks is increased from the first 15 to the first 23 registrants who wish to speak, with one time slot per organization. However, the total number of connections available for all registrants (including speakers plus observers) remains at 50. Presenters will speak in the order that they are registered. The agenda, including the list of speakers, will be posted on the NTP Web site (http://ntp.niehs.nih.gov/go/rocprocess) prior to the November 29, 2011, listening session. Information regarding the listening session was published on October 31, 2011, in the Federal Register (76 FR 67200) and is available on the NTP Web site (http://ntp.niehs.nih.gov/go/rocprocess). The guidelines and deadlines published in the Federal Register notice still apply except as noted above. Any updates or additional information will be posted on the NTP Web site.

DATES: The public listening session will be held November 29, 2011, 1-7 p.m. (EST). The deadline for submission of written comments is November 30, 2011, and the deadline to register for the public listening session is November 21, 2011. Registrants will receive information to access the listening session on or before November 22, 2011, and speakers should send oral statements and/or slides by close of business on November 21, 2011.

ADDRESSES: Written public comments and materials from speakers for the listening session should be sent to Dr. Ruth Lunn, Director, Office of the Report on Carcinogens, DNTP, NIEHS, P.O. Box 12233, MD K2-14, Research Triangle Park, NC 27709; telephone: (919) 316-4637 or email lunn@niehs.nih.gov. Courier address: NIEHS, Room 2006, 530 Davis Drive, Morrisville, NC 27560. Registration for the listening session is via the NTP Web site (http://ntp.niehs.nih.gov/go/rocprocess). TTY users should contact the Federal TTY Relay Service at (800) 877-8330. Requests must be made at least 5 business days in advance of the listening session.

FOR FURTHER INFORMATION CONTACT: Questions or comments should be directed to Dr. Lunn (see ADDRESSES).

Dated: November 8, 2011.
John R. Bucher,
Associate Director, National Toxicology Program.

[FR Doc. 2011-29615 Filed 11-15-11; 8:45 am]

BILLING CODE 4140-01-P